DEPARTMENT OF HEALTH AND HUMAN SERVICES

Health Resources and Services Administration

National Rural Health Information Clearinghouse Program

AGENCY: Health Resources and Services Administration (HRSA), Department of Health and Human Services.

ACTION: Announcing Funding Supplement for National Rural Health Information Clearinghouse Program recipient.

SUMMARY: HRSA provided supplemental award funds to the National Rural Health Information Clearinghouse Program recipient to develop toolkits and other resources that address strategies to promote rural community health.

FOR FURTHER INFORMATION CONTACT: Sarah Scott, Federal Office of Rural Health Policy, HRSA, at sscott2@hrsa.gov and (301) 287-2619.

SUPPLEMENTARY INFORMATION:

Intended Recipient of the Award: The University of North Dakota.

Amount of Non-Competitive Award: One award for $485,000.

Project Period: June 1, 2023, to May 31, 2024.

CFDA Number: 93.223.

Award Instrument: Supplement.

Authority: Social Security Act 711(b) (42 U.S.C. 912(b)).

Table 1—Recipients and Award Amounts
Grant No. | Award recipient name | City, State | Supplemental award amount
U56RH05539 | University of North Dakota | Grand Forks, ND | $485,000

Justification: This funding will provide a one-time supplement to the University of North Dakota via the National Rural Health Information Clearinghouse Program. This supplement will allow the University of North Dakota to build on past and ongoing projects supported by HRSA to improve health care in rural areas by serving as a primary resource for information, opportunities, and tools related to rural health. The supplement will allow the University of North Dakota to create new toolkits and resources on important topics related to rural community health. This builds upon the planned work within the scope of its existing award.

Carole Johnson,
Administrator.

[FR Doc. 2023-25068 Filed 11-13-23; 8:45 am]

BILLING CODE 4165-15-P